SECURITIES AND EXCHANGE COMMISSION

Sunshine Act; Meeting

Federal Register Citation of Previous Announcement: 69 FR 20954, April 19, 2004.

Status: Closed Meeting.

Place: 450 Fifth Street, NW., Washington, DC.

Date and Time of Previously Announced Meeting: Tuesday, April 20, 2004, at 10:30 a.m.

Change in the Meeting: Deletion of Item/Additional Item.

The following item was not considered during the Closed Meeting on April 20, 2004: An adjudicatory matter.

The following item was added to the Closed Meeting of April 20, 2004: Litigation matter.

Commissioner Glassman, as duty officer, determined that no earlier notice thereof was possible.

At times, changes in Commission priorities require alterations in the scheduling of meeting items. For further information and to ascertain what, if any, matters have been added, deleted or postponed, please contact the Office of the Secretary at (202) 942-7070.

Dated: April 20, 2004.
Jill M. Peterson,
Assistant Secretary.

[FR Doc. 04-9343 Filed 4-20-04; 3:59 pm]

BILLING CODE 8010-01-P